DEPARTMENT OF THE INTERIOR

Bureau of Indian Affairs

Replacement School Construction Priority List as of FY 2004

AGENCY: Bureau of Indian Affairs, Interior.

ACTION: Notice.

SUMMARY: As required by statute, the Bureau of Indian Affairs is publishing the “Replacement School Construction Priority List” in the Federal Register. The current priority list, last published in the Federal Register on July 9 and July 18, 2003, is revised by the addition of newly prioritized schools. The Bureau will use this list to determine the order in which Congressional appropriations are requested to fund education replacement construction of core academic and/or dormitory facilities.

FOR FURTHER INFORMATION CONTACT: Questions regarding the Education Facilities Replacement Construction Priority List should be referred to Andrew Acoya, AIA, Office of Facilities Management and Construction, P.O. Box 1248, Albuquerque, New Mexico 87103, (505) 346-6508, Fax (505) 346-6542.

SUPPLEMENTARY INFORMATION: Publication of the Replacement School Construction Priority List (Priority List) in the Federal Register is required by 25 U.S.C. 2005(d). In addition, the Conference Report (Report 108-330) which accompanied the Fiscal Year 2004 appropriations for the Department of the Interior directed the Secretary of the Interior to submit a new Priority List to Congress: “The managers direct that the Secretary submit a new priority list by February 15, 2004, containing a sufficient number of schools to continue the replacement school program through fiscal year 2007. The priority list should address the most critical needs based on the Bureau's facility management information system.”

The process used to develop the Priority List involved identification by the BIA of schools with critical health and safety concerns. This identification was conducted by the BIA's Office of Facilities Management and Construction (using the facilities management information system), the BIA's regional facilities program, and the Office of Indian Education Programs' facilities program. The BIA then selected, through a competitive bid process, an independent contractor experienced in facilities construction to conduct a site review of each of the identified schools' core academic and/or dormitory facility. The independent contractor then rated each school based on the following criteria, in order of priority: (1) Health and safety deficiencies, (2) environmental deficiencies, (3) accessibility for persons with disabilities, and (4) condition of existing utilities and site improvements. The Priority List includes 14 schools considered in most need of replacement of their core academic and/or dormitory facilities. Complete replacement of the entire school facility may not be necessary.

The BIA will begin the advance planning and design process for these schools to determine the scope and cost of each replacement project. This list will be more than sufficient to continue the replacement school construction program through FY 2007. Funding and scheduling for these projects is contingent on the budget process. In addition, any school placed on the Priority List is eligible for the Tribal School Construction Demonstration Program. Participation in this program would expedite the funding and scheduling for school replacement projects.

Under Section 1125(a)(5) of the No Child Left Behind Act (Pub. L. 107-110), the Secretary is required to conduct negotiated rulemaking regarding Indian school construction. This negotiated rulemaking may impact future replacement school construction priorities.

Schools placed on the previously published “Education Facilities Construction Priority List as of FY 2003,” published in the Federal Register on July 9, 2003 (68 FR 40996) and July 18, 2003 (68 FR 42815) that were not yet fully funded for construction are retained. In accordance with Congressional directives, the projects listed do not provide for the funding of new schools, grade level expansions, and charter schools.

This notice is published under authority delegated by the Secretary of the Interior to the Assistant Secretary for Indian Affairs in the Departmental Manual at 209 DM 8.

Replacement School Construction Priority List

1. Dilcon Community School

2. Porcupine Day School

3. Crown Point/T'iists'oozi'bi'olta Community School

4. Muckleshoot Tribal School

5. Dennehotso Boarding School

6. Circle of Life Survival School

7. Keams Canyon Elementary School

8. Rough Rock Community School

9. Crow Creek Elementary/Middle/High School

10. Kaibeto Boarding School

11. Blackfeet Dormitory

12. Beatrice Rafferty School

13. Little Singer Community School

14. Cove Day School

Dated: March 9, 2004.
Dave Anderson,
Assistant Secretary—Indian Affairs.

[FR Doc. 04-6533 Filed 3-23-04; 8:45 am]

BILLING CODE 4310-XN-P